DEPARTMENT OF AGRICULTURE

Natural Resources Conservation Service

Notice of Proposed Changes to the Natural Resources Conservation Service's National Handbook of Conservation Practices

AGENCY: Natural Resources Conservation Service (NRCS), U.S. Department of Agriculture.

ACTION: Notice of availability of proposed changes in the NRCS National Handbook of Conservation Practices for public review and comment.

SUMMARY: Notice is hereby given of the intention of NRCS to issue a series of new or revised conservation practice standards in its National Handbook of Conservation Practices. These standards include: “Agrichemical Handling Facility (Code 309)” (This is a new standard), and “Fence (Code 382)” (This is an existing standard that has been updated). NRCS State Conservationists who choose to adopt these practices for use within their States will incorporate them into Section IV of their respective electronic Field Office Technical Guides (eFOTG). These practices may be used in conservation systems that treat highly erodible land or on land determined to be a wetland.

EFFECTIVE DATES: Comments will be received for a 30-day period commencing with this date of publication. Final versions of these new or revised conservation practice standards will be adopted after the close of the 30-day period, after consideration of all comments.

ADDRESSES: Comments should be submitted by one of the following methods:

1. In writing to: National Agricultural Engineer, Natural Resources Conservation Service, P.O. Box 2890, Washington, DC 20013-2890; or

2. Electronically by e-mail to: Daniel.meyer@wdc.usda.gov.

FOR FURTHER INFORMATION CONTACT: Copies of these standards are attached to this Notice or can be downloaded or printed from the following Web site: ftp://ftp-fc.sc.egov.usda.gov/NHQ/practice-standards/federal-register/. Single copies of paper versions of these standards are also available from NRCS in Washington, DC. Submit individual inquiries in writing to Daniel Meyer, National Agricultural Engineer, Natural Resources Conservation Service, Post Office Box 2890, Room 6139-S, Washington, DC 20013-2890, or electronically to Daniel.meyer@wdc.usda.gov.

SUPPLEMENTARY INFORMATION: Section 343 of the Federal Agriculture Improvement and Reform Act of 1996 requires NRCS to make available for public review and comment all proposed revisions to conservation practice standards used to carry out the highly erodible land and wetland provisions of the law.

For the next 30 days, NRCS will receive comments relative to the proposed changes. Following that period, a determination will be made by NRCS regarding disposition of those comments and a final determination of changes will be made.

Signed in Washington, DC, on June 7, 2007.
Arlen L. Lancaster,
Chief, Natural Resources Conservation Service.

[FR Doc. E7-13251 Filed 7-6-07; 8:45 am]

BILLING CODE 3410-16-P